DEPARTMENT OF THE INTERIOR

National Park Service

[NPS-WASO-NAGPRA-NPS0035387; PPWOCRADN0-PCU00RP14.R50000]

Notice of Inventory Completion: California Department of Parks and Recreation, Sacramento, CA

AGENCY: National Park Service, Interior.

ACTION: Notice.

SUMMARY: In accordance with the Native American Graves Protection and Repatriation Act (NAGPRA), the California Department of Parks and Recreation has completed an inventory of human remains and associated funerary objects and has determined that there is a cultural affiliation between the human remains and associated funerary objects and Indian Tribes or Native Hawaiian organizations in this notice. The human remains and associated funerary objects were removed from Los Angeles County, CA.

DATES: Repatriation of the human remains and associated funerary objects in this notice may occur on or after March 27, 2023.

ADDRESSES: Dr. Leslie L. Hartzell, NAGPRA Coordinator, California Department of Parks and Recreation, P.O. Box 942896, Sacramento, CA 94296-0001, telephone (916) 425-8016, email Leslie.Hartzell@parks.ca.gov.

SUPPLEMENTARY INFORMATION: This notice is published as part of the National Park Service's administrative responsibilities under NAGPRA. The determinations in this notice are the sole responsibility of the California Department of Parks and Recreation. The National Park Service is not responsible for the determinations in this notice. Additional information on the determinations in this notice, including the results of consultation, can be found in the inventory or related records held by the California Department of Parks and Recreation.

Description

In 1954, human remains representing, at minimum, one individual were removed from CA-LAN-192, the Lovejoy Springs site, in Los Angeles County, CA, by the Archaeological Survey Association of Southern California, a local avocational society. Under the direction of archeologist Charles Rozaire, cultural materials were collected from the surface and from four shallow, 5-by-5-foot units excavated on the southern side of the site. The collection was obtained by the Antelope Valley Indian Museum (AVIM) sometime prior to its incorporation into the California State Park system in 1979. From that year onward, the collection has been in the possession of the AVIM. No known individual was identified.

In 1989, human remains representing, at minimum, one individual were removed from CA-LAN-192, the Lovejoy Springs site, in Los Angeles County, CA by an archeological field class from the Cerro Coso College campus at Edwards Air Force Base. The field class excavated seven 1-by-1-meter units under the direction of archeologist Bruce Love. In 2017, Love donated the collection from this site to the AVIM. Later that year, while investigating the faunal assemblage from this collection, Love identified human remains consisting of one burned phalange and one highly burned human bone fragment. No known individual was identified. The 258 associated funerary objects identified in the collection are one bone bead, one botanical sample, one groundstone fragment, one lot of charcoal, one manuport, one possible granitic biface, one quartz projectile point fragment, one schist mortar bowl fragment, two lots of fire-altered rock, two ceramic fragments, two mano fragments, two schist metate fragments, four flaked stone biface, four flake tools, six lithic cores, nine lots of groundstone fragments, 10 lots of shell fragments, 11 edge-modified flakes, 41 lots of faunal bone, 18 Olivella beads, and 139 lots of flaked stone.

According to Serrano-speaking elder Santos Manuel of the San Manuel Band of Mission Indians, and Spanish explorers, including Father Francisco Garces, who passed through the Antelope Valley in the 1770s, the communities on the southeast side of the Antelope Valley were Serrano-speaking and at the time of Spanish contact, were tied into the Serrano social system. The Morongo Band of Mission Indians, California, and the Yuhaaviatam of San Manuel Nation (Previously listed as San Manuel Band of Mission Indians, California) are present-day Indian Tribes who identify themselves culturally as Serrano peoples.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, geographical, historical, oral traditional, expert opinion, and other relevant information.

Determinations

Pursuant to NAGPRA and its implementing regulations, and after consultation with the appropriate Indian Tribes and Native Hawaiian organizations, the California Department of Parks and Recreation has determined that:

• The human remains described in this notice represent the physical remains of two individuals of Native American ancestry.

• The 258 objects described in this notice are reasonably believed to have been placed with or near individual human remains at the time of death or later as part of the death rite or ceremony.

• There is a relationship of shared group identity that can be reasonably traced between the human remains and associated funerary objects described in this notice and the Morongo Band of Mission Indians, California, and the Yuhaaviatam of San Manuel Nation (Previously listed as San Manuel Band of Mission Indians, California).

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 27, 2023. If competing requests for repatriation are received, the California Department of Parks and Recreation must determine the most appropriate requestor prior to repatriation. Requests for joint repatriation of the human remains and associated funerary objects are considered a single request and not competing requests. The California Department of Parks and Recreation is responsible for sending a copy of this notice to the Indian Tribes identified in this notice.

Authority: Native American Graves Protection and Repatriation Act, 25 U.S.C. 3003, and the implementing regulations, 43 CFR 10.9, § 10.10, and § 10.14.

Dated: February 15, 2023.
Melanie O'Brien,
Manager, National NAGPRA Program.

[FR Doc. 2023-03817 Filed 2-23-23; 8:45 am]

BILLING CODE 4312-52-P